DEPARTMENT OF TRANSPORTATION

Federal Aviation Administration

14 CFR Part 73

[Docket No. FAA-2013-0729; Airspace Docket No. 13-AEA-14]

RIN 2120-AA66

Modification and Establishment of Restricted Areas; Aberdeen Proving Ground, MD

AGENCY: Federal Aviation Administration (FAA), DOT.

ACTION: Final rule.

SUMMARY: This action establishes a new restricted area, designated R-4001C, within a part of the existing restricted areas R-4001A and R-4001B, at the U.S. Army's Aberdeen Proving Ground in Maryland. The purpose of the new area is to contain two moored balloons, called Aerostats, operating continuously at approximately 10,000 feet MSL. This action segregates nonparticipating aircraft from a hazard to navigation in Aberdeen Proving Ground airspace.

DATES: Effective date 0901 UTC, July 24, 2014.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

History

On October 1, 2013, the FAA published in the Federal Register a notice of proposed rulemaking to establish a new restricted area, designated R-4001C, within a portion of existing restricted areas R-4001A and R-4001B, at the U.S. Army's Aberdeen Proving Ground in Maryland (78 FR 60238). The U.S. Army requested this action to contain two moored Aerostat balloons that will be operated at approximately 10,000 feet MSL, without lights, and therefore must be contained within restricted airspace.

Interested parties were invited to participate in this rulemaking effort by submitting written comments on the proposal. No comments were received.

The Rule

The FAA is amending 14 CFR part 73 by creating a new restricted area, designated R-4001C, within a part of existing restricted areas R-4001A and R-4001B at Aberdeen Proving Ground, MD. R-4001C is a rectangular area, approximately 4.5 nautical miles (NM) by 2 NM in size, that extends from the surface to 10,000 feet MSL. The time of designation for R-4001C is “continuous.” Because the moored balloons contained in the area will be airborne 24 hours per day (except for periods when maintenance is required, or the winds exceed 60 knots), R-4001C is not a joint-use restricted area. R-4001A and R-4001B continue to be joint-use areas, meaning that they may be released, in whole or in part, to the FAA controlling agency when the airspace is not needed by the using agency. During times when the airspace is released to the controlling agency, air traffic may be cleared through R-4001A and/or R-4001B. In addition, an editorial change is made to the using agency name for R-4001A and R-4001B by adding “U.S. Army” at the beginning of the agency name for format standardization purposes.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies restricted area airspace to support military requirements at Aberdeen Proving Ground, MD.

Environmental Review

In accordance with FAA Order 1050.1E, paragraphs 402 and 404d, the FAA has conducted an independent evaluation of the United States Army's Final Environmental Assessment for the Joint Land Attack Cruise Missile Defense Elevated Netted Sensor System (JLENS) at Army Garrison Aberdeen Proving Group, Maryland, dated February 2014 (hereinafter “the FEA”) regarding the construction of sites for the operational exercise of the JLENS at Aberdeen Proving Ground. The FAA adopted the FEA and prepared a Finding of No Significant Impact/Record of Decision dated May 2014. The FAA has determined that no significant impacts would occur as a result of the Federal action and therefore that preparation of an Environmental Impact Statement is not warranted and a Finding of No Significant Impact in accordance with 40 CFR Part 1501.4(e) is appropriate.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.40 [Amended]

2. § 73.40 is amended as follows:

R-4001A Aberdeen, MD [Amended]

By removing the current boundaries and using agency and adding in their place:

Boundaries. Beginning at lat. 39°30′30″ N., long. 76°09′59″ W.; to lat. 39°29′00″ N., long. 76°07′59″ W.; to lat. 39°29′30″ N., long. 76°04′59″ W.; to lat. 39°27′00″ N., long. 76°00′29″ W.; to lat. 39°19′47″ N., long. 76°11′33″ W.; to lat. 39°17′30″ N., long. 76°12′58″ W.; to lat. 39°16′24″ N., long. 76°16′17″ W.; to lat. 39°17′13″ N., long. 76°18′48″ W.; to lat. 39°18′42″ N., long. 76°18′48″ W.; to lat. 39°20′03″ N., long. 76°20′30″ W.; to lat. 39°19′56″ N., long. 76°21′02″ W.; to lat. 39°20′39″ N., long. 76°21′59″ W.; to lat. 39°22′00″ N., long. 76°21′59″ W.; to lat. 39°23′28″ N., long. 76°20′39″ W.; to lat. 39°26′10″ N., long. 76°14′49″ W.; to lat. 39°27′00″ N., long. 76°12′29″ W.; to the point of beginning, excluding R-4001C.

Using agency. U.S. Army, Commander, Aberdeen Proving Ground, MD.

R-4001B Aberdeen, MD [Amended]

By removing the current boundaries and using agency and adding in their place:

Boundaries. Beginning at lat. 39°17′30″ N., long. 76°12′58″ W.; to lat. 39°12′10″ N., long. 76°16′29″ W.; to lat. 39°12′45″ N., long. 76°22′29″ W.; to lat. 39°17′30″ N., long. 76°19′44″ W.; to lat. 39°18′30″ N., long. 76°21′59″ W.; to lat. 39°20′39″ N., long. 76°21′59″ W.; to lat. 39°19′56″ N., long. 76°21′02″ W.; to lat. 39°20′03″ N., long. 76°20′30″ W.; to lat. 39°18′42″ N., long. 76°18′48″ W.; to lat. 39°17′13″ N., long. 76°18′48″ W.; to lat. 39°16′24″ N., long. 76°16′17″ W.; to the point of beginning.

Using agency. U.S. Army, Commander, Aberdeen Proving Ground, MD.

R-4001C Aberdeen, MD [New]

Boundaries. Beginning at lat. 39°21′50″ N., long. 76°21′59″ W.; to lat. 39°23′01″ N., long. 76°16′35″ W.; to lat. 39°21′04″ N., long. 76°15′52″ W.; to lat. 39°19′56″ N., long. 76°21′02″ W.; to lat. 39°20′39″ N., long. 76°21′59″ W.; to the point of beginning.

Designated altitudes. Surface to 10,000 feet MSL.

Time of designation. Continuous.

Controlling agency. FAA, Potomac TRACON.

Using agency. U.S. Army, Commander, Aberdeen Proving Ground, MD.

Issued in Washington, DC, on May 20, 2014.
Colby Abbott,
Acting Manager, Airspace Policy and Regulations Group.

[FR Doc. 2014-11976 Filed 5-22-14; 8:45 am]

BILLING CODE 4910-13-P